PRESIDIO TRUST

Notice of Public Meeting

AGENCY: The Presidio Trust.

ACTION: Notice of public meeting.

SUMMARY: In accordance with section (c)(6) of the Presidio Trust Act, 16 U.S.C. 460bb note, Title I of Pub. L. 104-333, 110 Stat. 4097, and in accordance with the Presidio Trust's bylaws, notice is hereby given that a public meeting of the Presidio Trust Board of Directors will be held from 6 p.m. to 8:30 p.m. on Tuesday, June 17, 2003, at the Officers' Club, 50 Moraga Avenue, Presidio of San Francisco, California. The Presidio Trust was created by Congress in 1996 to manage approximately eighty percent of the former U.S. Army base known as the Presidio, in San Francisco, California.

The purposes of this meeting are to: (1) Provide the Executive Director's report regarding the status of the Public Health Service Hospital, the status of the Main Parade Ground, and the status of the environmental remediation program; (2) consider staff's recommendation for revisions to the Presidio Trails Plan in response to public comment and a finding of no significant impact (action item); and (3) provide a report on the status of Crissy Field.

TIME: The meeting will be held from 6 p.m. to 8:30 p.m. on Tuesday, June 17, 2003.

ADDRESSES: The meeting will be held at the Officers' Club, 50 Moraga Avenue, Presidio of San Francisco.

FOR FURTHER INFORMATION CONTACT: Karen Cook, General Counsel, the Presidio Trust, 34 Graham Street, P.O. Box 29052, San Francisco, California 94129-0052, Telephone: (415) 561-5300.

Dated: May 29, 2003.
Karen A. Cook,
General Counsel.

[FR Doc. 03-13972 Filed 5-30-03; 10:55 am]

BILLING CODE 4310-4R-P